DEPARTMENT OF COMMERCE

International Trade Administration

[A-122-863]

Large Diameter Welded Pipe From Canada: Final Results of Antidumping Duty Administrative Review and Final Determination of No Shipments; 2018-2020

AGENCY: Enforcement and Compliance, International Trade Administration, Department of Commerce.

SUMMARY: The Department of Commerce (Commerce) determines that the producers or exporters subject to this administrative review made sales of large diameter welded pipe from the Canada in the United States at prices below normal value (NV) during the period of review (POR), August 27, 2018, through April 30, 2020.

DATES: Applicable February 4, 2022.

FOR FURTHER INFORMATION CONTACT: Irene Gorelik, AD/CVD Operations, Office VIII, Enforcement and Compliance, International Trade Administration, U.S. Department of Commerce, 1401 Constitution Avenue NW, Washington, DC 20230; telephone: (202) 482-6905.

SUPPLEMENTARY INFORMATION:

Background

On August 4, 2021, Commerce published the preliminary results of this administrative review.¹ The review covers 40 producers or exporters of subject merchandise. We invited interested parties to comment on the Preliminary Results. A summary of the events that occurred since Commerce published the Preliminary Results, as well as a full discussion of the issues raised by parties for these final results, are discussed in the Issues and Decision Memorandum.²

¹ See Large Diameter Welded Pipe from Canada: Preliminary Results of Antidumping Duty Administrative Review and Preliminary Determination of No Shipments; 2018-2020, 86 FR 41956 (August 4, 2021) (Preliminary Results), and accompanying Preliminary Decision Memorandum (PDM).

² See Memorandum, “Issues and Decision Memorandum for the Final Results of Antidumping Duty Administrative Review: Large Diameter Welded Pipe from Canada; 2018-2020,” dated concurrently with, and hereby adopted by, this notice (Issues and Decision Memorandum).

Commerce conducted this review in accordance with section 751(a) of the Tariff Act of 1930, as amended (the Act).

Scope of the Order ³

³ See Large Diameter Welded Pipe from Canada: Antidumping Duty Order, 84 FR 18775 (May 2, 2019) (Order).

The product covered by this Order is large diameter welded pipe from Canada. For a complete description of the scope of the Order, see the Issues and Decision Memorandum.

Final Determination of No Shipments

In the Preliminary Results, Commerce determined that Canam (St Gedeon) (Canam),⁴ had no shipments during the POR.⁵ As we have received no information to contradict this determination, consistent with our practice, we will instruct U.S. Customs and Border Protection (CBP) to liquidate any existing entries of subject merchandise produced by this company, but exported by other parties, at the rate for the intermediate reseller, if available, or at the all-others rate.

⁴ In the Initiation Notice, this company was listed as Canam (St Gedeon). However, in its certification of no shipments, it noted that Canam (St Gedeon) is a plant location and not its legal name. It also noted that it had recently undergone a corporate restructuring and is now named Canam Group Inc., which is the successor entity to Canam Group Inc. f/k/a Canam Buildings and Structures Inc. See Canam's Letter, “No Shipments Letter for Canam Group Inc. f/k/a Canam Buildings and Structures Inc.,” dated August 7, 2020; see also Initiation of Antidumping and Countervailing Duty Administrative Reviews, 85 FR 41540 (July 10, 2020).

⁵ See Preliminary Results, 86 FR 41956-57.

Analysis of Comments Received

All issues raised in the parties' case and rebuttal briefs are addressed in the Issues and Decision Memorandum and are listed in Appendix I to this notice.⁶ The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at http://access.trade.gov/public/FRNoticesListLayout.aspx.

⁶ See Appendix I.

Changes Since the Preliminary Results

Based on comments received from interested parties regarding our Preliminary Results and our review of the record to address those comments, we made changes to the Preliminary Results, as detailed in the Issues and Decision Memorandum.⁷

⁷ See Issues and Decision Memorandum at Comments 2, 3, 5 and 6.

Rate for Non-Examined Respondents

As we stated in the Preliminary Results, the statute and Commerce's regulations do not address the establishment of a rate to be applied to companies not selected for individual examination when Commerce limits its examination in an administrative review pursuant to section 777A(c)(2) of the Act.⁸ For the weighted-average dumping margin for non-examined respondents in an administrative review, generally, Commerce looks to section 735(c)(5) of the Act, which provides instructions for calculating the all-others rate in an investigation.⁹ Under section 735(c)(5)(A) of the Act, the all-others rate is normally an amount equal to the weighted average of the estimated weighted-average dumping margins established for exporters and producers individually investigated, excluding rates that are zero, de minimis, or based entirely on facts available. For these final results, we calculated a weighted-average dumping margin for Evraz Inc. NA (Evraz), the sole mandatory respondent, that was not zero, de minimis, or based entirely on facts available. Accordingly, consistent with our practice, we applied the weighted-average dumping margin calculated for Evraz as the weighted-average dumping margin for the non-examined companies.¹⁰

⁸ See Preliminary Results, 86 FR 41957; see also PDM at 4.

⁹ Id.

¹⁰ See Preliminary Results, 86 FR 41957; see also Narrow Woven Ribbons with Woven Selvedge from Taiwan; Preliminary Results of Antidumping Duty Administrative Review; 2013-2014, 80 FR 60627, 60627 (October 7, 2015), unchanged in Narrow Woven Ribbons with Woven Selvedge from Taiwan; Final Results of Antidumping Duty Administrative Review; 2013-2014, 81 FR 22578 (April 18, 2016); and Boltless Steel Shelving Units Prepackaged for Sale from the People's Republic of China: Final Determination of Sales at Less Than Fair Value, 80 FR 51779, 51780 (August 26, 2015).

Final Results of the Review

As a result of this review, we determine the following weighted-average dumping margins exist for the POR:

Exporter or producer | Weighted- average dumping margin (percent)
Evraz Inc. NA ¹¹ | 15.29
Non-Examined Companies ¹² | 15.29

Disclosure

¹¹ In the underlying less-than-fair-value (LTFV) investigation, Commerce determined that Evraz Inc. NA, Evraz Inc. NA Canada, and the Canadian National Steel Corporation (or Corp.) (collectively, Evraz) comprise a single entity. See Order. There is no information on the record of this review that warrants reconsideration of this single entity determination. In the Preliminary Results, Commerce inadvertently listed the abbreviated name form “Canadian National Steel Corp” in Appendix II as this name form was listed in the Initiation Notice separately from the Evraz single entity. As the two names differ only by the abbreviation of Corporation to Corp., we find them to be the same company, and thus, have not listed the abbreviated form in Appendix II of this notice.

¹² See Appendix II.

Commerce intends to disclose the calculations performed for these final results within five days of the date of publication of this notice in the Federal Register, in accordance with 19 CFR 351.224(b).

Assessment Rates

Commerce determined, and CBP shall assess, antidumping duties on all appropriate entries of subject merchandise in accordance with these final results of review.¹³

¹³ See 19 CFR 351.212(b).

Pursuant to 19 CFR 351.212(b)(1), as Evraz reported that it is the importer of record for all its U.S. sales and it reported the entered value of those sales, we calculated importer-specific ad valorem duty assessment rates based on the ratio of the total amount of dumping calculated for the examined sales to the total entered value of those sales. Where the respondent's weighted-average dumping margin is zero or de minimis within the meaning of 19 CFR 351.106(c)(1), or an importer-specific assessment rate is zero or de minimis, we will instruct CBP to liquidate the appropriate entries without regard to antidumping duties.

Commerce's “automatic assessment” practice will apply to entries of subject merchandise during the POR produced by Evraz for which the company did not know that the merchandise it sold to the intermediary (e.g., a reseller, trading company, or exporter) was destined for the United States. In such instances, we will instruct CBP to liquidate unreviewed entries at the all-others rate if there is no rate for the intermediate company(ies) involved in the transaction.¹⁴

¹⁴ For a full discussion of this practice, see Antidumping and Countervailing Duty Proceedings: Assessment of Antidumping Duties, 68 FR 23954 (May 6, 2003).

For the companies which were not selected for individual examination, we intend to direct CBP to assess antidumping duties at a rate equal to the weighted-average dumping margin determined for those companies in the final results.

For the company that certified it had no shipments, we will instruct CBP to liquidate any existing entries of subject merchandise produced by it, but exported by other parties, at the rate for the intermediate reseller, if available, or at the all-others rate, consistent with Commerce's reseller policy.¹⁵

¹⁵ Id.

Commerce intends to issue liquidation instructions to CBP no earlier than 41 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following deposit requirements will be in effect for all shipments of the subject merchandise entered, or withdrawn from warehouse, for consumption on or after the publication date of the final results of this administrative review, as provided by section 751(a)(2)(C) of the Act: (1) The cash deposit rate for the companies listed above will be equal to the weighted-average dumping margin that is established in the final results of this review, except if the rate is less than 0.50 percent and, therefore, de minimis within the meaning of 19 CFR 351.106(c)(1), in which case the cash deposit rate will be zero; (2) for previously investigated or reviewed companies not subject to this review, the cash deposit rate will continue to be the company-specific rate published for the most recently completed segment of this proceeding in which the company participated; (3) if the exporter is not a firm covered in this review, a prior review, or the original LTFV investigation, but the producer is, the cash deposit rate will be the rate established for the most recently completed segment of the proceeding for the producer of the merchandise; and (4) the cash deposit rate for all other producers and exporters will continue to be 12.32 percent ad valorem, the all-others rate established in the LTFV investigation.¹⁶

¹⁶ See Order.

These cash deposit requirements, when imposed, shall remain in effect until further notice.

Notification to Importers Regarding the Reimbursement of Duties

This notice also serves as a final reminder to importers of their responsibility under 19 CFR 351.402(f)(2) to file a certificate regarding the reimbursement of antidumping duties prior to liquidation of the relevant entries during the POR. Failure to comply with this requirement could result in Commerce's presumption that reimbursement of antidumping duties occurred and the subsequent assessment of double antidumping duties.

Notification Regarding Administrative Protective Order

This notice also serves as a reminder to parties subject to administrative protective order (APO) of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and the terms of an APO is a sanctionable violation.

Notification to Interested Parties

We are issuing and publishing this notice in accordance with sections 751(a)(1) and 777(i)(1) of the Act, and 19 CFR 351.221(b)(5).

Dated: January 28, 2022.
Lisa W. Wang,
Assistant Secretary for Enforcement and Compliance.

Appendix I

List of Topics Discussed in the Issues and Decision Memorandum

I. Summary

II. Background

III. Scope of the Order

IV. Changes to the Preliminary Results

V. Discussion of the Issues

Comment 1: Whether To Apply Partial Adverse Facts Available to Structural Pipe Cost

Comment 2: Whether To Revise Certain Affiliated Supplier Adjustments

Comment 3: Whether To Correct a Clerical Error Regarding Home Market and U.S. Sales

Comment 4: Whether To Recalculate Home Market Credit Expenses Using Invoice Date

Comment 5: Whether Antidumping Duty Revenue is an Addition to Gross Unit Price

Comment 6: Whether To Cap Movement-Related Revenues by the Corresponding Expenses

Comment 7: Whether Section 232 Duties can be Lawfully Deducted From the Export Price

VI. Recommendation

Appendix II

Companies Not Selected for Individual Examination

1. Aciers Lague Steels Inc

2. Acier Profile SBB Inc

3. Amdor Inc

4. BPC Services Group

5. Bri-Steel Manufacturing

6. Canada Culvert

7. Cappco Tubular Products Canada Inc

8. CFI Metal Inc

9. Dominion Pipe & Piling

10. Enduro Canada Pipeline Services

11. Fi Oilfield Services Canada

12. Forterra

13. Gchem Ltd

14. Graham Construction

15. Groupe Fordia Inc

16. Grupo Fordia Inc

17. Hodgson Custom Rolling

18. Hyprescon Inc

19. Interpipe Inc

20. K K Recycling Services

21. Kobelt Manufacturing Co

22. Labrie Environment

23. Les Aciers Sofatec

24. Lorenz Conveying P

25. Lorenz Conveying Products

26. Matrix Manufacturing

27. MBI Produits De Forge

28. Nor Arc

29. Peak Drilling Ltd

30. Pipe & Piling Sply Ltd

31. Pipe & Piling Supplies

32. Prudental

33. Prudential

34. Shaw Pipe Protecction

35. Shaw Pipe Protection

36. Tenaris Algoma Tubes Facility

37. Tenaris Prudential

38. Welded Tube of Can Ltd

[FR Doc. 2022-02353 Filed 2-3-22; 8:45 am]

BILLING CODE 3510-DS-P